CONSUMER PRODUCT SAFETY COMMISSION

Sunshine Act Meetings

AGENCY: U.S. Consumer Product Safety Commission.

Federal Register Citation of Previous Announcement:Vol. 76, No. 195, Friday, October 7, 2011, pages 62393-62394.

Announced Time and Date of Open Meeting: 9 a.m.-12 p.m., Wednesday October 12, 2011.

Changes to Open Meeting: Meeting Deferred until Wednesday, October 19, 2011, 9 a.m.-12 p.m.

Announced Time and Date of Closed Meeting: 2-3 p.m., Wednesday September 21, 2011.

Closed Meeting: Time Change: 10 a.m.-11 a.m.

For a recorded message containing the latest agenda information, call (301) 504-7948.

CONTACT PERSON FOR ADDITIONAL INFORMATION: Todd A. Stevenson, Office of the Secretary, 4330 East West Highway, Bethesda, MD 20814 (301) 504-7923.

Dated: October 11, 2011.
Todd A. Stevenson,
Secretary.

[FR Doc. 2011-26605 Filed 10-11-11; 4:15 pm]

BILLING CODE 6355-01-P